DEPARTMENT OF ENERGY

Federal Energy Regulatory Commission

[Docket No. RP04-171-003]

Portland Natural Gas Transmission System; Notice of Compliance Filing

August 11, 2005.

Take notice that on August 5, 2005, Portland Natural Gas Transmission System (PNGTS) tendered for filing the following revised tariff sheets to its FERC Gas Tariff, Original Volume No. 1, to become effective on April 1, 2004:

Second Revised Sheet No. 201

First Revised Sheet No. 215

Original Sheet No. 215A

Second Substitute Original Sheet No. 219

Original Sheet No. 219A

Second Substitute Original Sheet No. 223

Second Substitute Third Revised Sheet No. 326

Original Sheet No. 326A

Substitute Third Revised Sheet No. 339

Substitute First Revised Sheet No. 571

PNGTS states that the purpose of its filing is to comply with the Commission's Order issued in this proceeding on June 20, 2005, Portland Natural Gas Transmission Sys., 111 FERC ¶ 61,430 (2004), which accepted, subject to certain conditions and modifications, tariff sheets filed by PNGTS on April 9, 2004 to establish a new hourly firm transportation service.

PNGTS states that copies of this filing are being served on all jurisdictional customers and interested state commissions, as well as all persons on the service list for this proceeding.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-4474 Filed 8-16-05; 8:45 am]

BILLING CODE 6717-01-P